NATIONAL SCIENCE FOUNDATION

Final Environmental Impact Statement (FEIS) for the Sacramento Peak Observatory, Sunspot, New Mexico

AGENCY: National Science Foundation.

ACTION: Notice of availability.

SUMMARY: The National Science Foundation (NSF) announces the availability of the Final Environmental Impact Statement (FEIS) for Sacramento Peak Observatory, Sunspot, NM. This Final EIS identifies and analyzes the potential environmental consequences of the following alternatives: Alternative 1, Continued Science- and Education-focused Operations by Interested Parties with Reduced NSF Funding; Alternative 2, Transition to Partial Operations by Interested Parties with Reduced NSF Funding (Agency-preferred Alternative); Alternative 3, Mothballing of Facilities; Alternative 4, Demolition and Site Restoration (Secondary Agency-Preferred Alternative); and the No Action Alternative, Continued NSF Investment for Science‐focused Operations. It also proposes mitigation measures to minimize the adverse impacts from alternatives that include demolition where such impacts may occur.

DATES: The National Science Foundation will execute a Record of Decision no sooner than 30 days after the date of publication of the Notice of Availability published in the Federal Register by the Environmental Protection Agency.

ADDRESSES: The Final EIS is made available for public inspection online at www.nsf.gov/AST. A copy of the FEIS will be available for review at the following libraries:

Michael Nivison Public Library, 90 Swallow Place, Cloudcroft, NM 88317

Alamogordo Public Library, 920 Oregon Avenue, Alamogordo, NM 88310

FOR FURTHER INFORMATION CONTACT: Ms. Elizabeth Pentecost, Re: Sacramento Peak Observatory, 2415 Eisenhower Avenue, Room W9152, Alexandria, VA 22314, envcomp-AST-sacpeak@nsf.gov; 703-292-4907.

SUPPLEMENTARY INFORMATION: Sacramento Peak Observatory is located in Sunspot, New Mexico, within the Lincoln National Forest in the Sacramento Mountains. Established by the U.S. Air Force via a memorandum of agreement with the U.S. Forest Service in 1950, the facility was transferred to NSF in 1976. NSF and the U.S. Forest Service executed a land use agreement (signed in 1980) to formalize this transition and the continued use of the land for the Observatory. The primary research facility in operation at the Sacramento Peak site is the Richard B. Dunn Solar Telescope (DST), currently managed by the National Solar Observatory (NSO). The DST is a high-spatial resolution optical/infrared solar telescope.

Through a series of academic community-based and portfolio reviews, NSF identified the need to divest several facilities from its portfolio in order to retain the balance of capabilities needed to deliver the best performance on the key science of the present decade and beyond. In 2016, NSF completed a feasibility study to inform and define options for the site's future disposition that would involve significantly decreasing or eliminating NSF funding of the Sacramento Peak Observatory. NSF issued a Notice of Intent to prepare an EIS on July 5, 2016, held scoping meetings on July 21, 2016, and held a 30-day public comment period that closed on August 5, 2016.

The Draft EIS was made available for public review and comment from February 8 through March 26, 2018. The full Draft EIS was also posted on the NSF, Division of Astronomical Sciences website (www.nsf.gov/AST) and hard copies were delivered to local libraries. A public meeting on the Draft EIS was held in Alamogordo, NM on February 28, 2018. During the review period, the NSF received over 30 comments. After considering all comments received, the NSF prepared the Final EIS. There are no substantive changes to the range of alternatives considered. Alternative 2 is identified as the “Agency-Preferred Alternative” and Alternative 4 is identified as the “Secondary Agency-Preferred Alternative.”

Dated: November 13, 2018.
Suzanne H. Plimpton,
Reports Clearance Officer, National Science Foundation.

[FR Doc. 2018-25088 Filed 11-16-18; 8:45 am]

BILLING CODE 7555-01-P